DEPARTMENT OF COMMERCE

National Oceanic and Atmospheric Administration

RIN 0648-XD16

Marine Mammals; File No. 782-1702

AGENCY: National Marine Fisheries Service (NMFS), National Oceanic and Atmospheric Administration (NOAA), Commerce.

ACTION: Notice; receipt of application for amendment.

SUMMARY: Notice is hereby given that NMFS National Marine Mammal Laboratory, 7600 Sand Point Way, NE, Seattle, WA 98115-0070, has requested an amendment to Scientific Research Permit No. 782-1702.

DATES: Written, telefaxed, or e-mail comments must be received on or before November 9, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521;

Northwest Region, NMFS, 7600 Sand Point Way NE, BIN C15700, Bldg. 1, Seattle, WA 98115-0700; phone (206)526-6150; fax (206)526-6426; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 782-1702.

FOR FURTHER INFORMATION CONTACT: Tammy Adams or Kate Swails, (301)713-2289.

SUPPLEMENTARY INFORMATION: The subject amendment to Permit No. 782-1702 is requested under the authority of the Marine Mammal Protection Act of 1972, as amended (16 U.S.C. 1361 et seq.), and the regulations governing the taking and importing of marine mammals (50 CFR part 216).

Permit No. 782-1702, issued on September 16, 2003 (68 FR 58663) authorizes the permit holder to conduct aerial, ground, and vessel surveys annually in California, Washington, and Oregon for stock assessment of harbor seals (Phoca vitulina), California sea lions (Zalophus californianus), Steller sea lions (Eumetopias jubatus), and northern elephant seals (Mirounga angustirostris). Harbor seals, California sea lions, and northern elephant seals may be captured, tagged, and hot-branded for long-term identification of individuals and information on reproductive success, survival and longevity. Blood samples may be collected for disease screening. Blubber biopsies may be taken for contaminant analysis. Other tissues may be sampled for genetics and for fatty acid analysis. Some animals may be instrumented with VHF radio transmitters, Time-Depth Recorders, satellite tags, or sonic tags to document movements, activity and foraging patterns.

The permit holder now requests authorization to conduct additional activities on up to 20 adult harbor seals annually. These seals, excluding pregnant or lactating females, would receive gas anesthesia following capture, have stomach temperature transmitters inserted via stomach intubation, and have an external data logger attached externally. The purpose of the additional protocols is to augment current studies on harbor seal diet and abundance. This amendment would not result in capture or disturbance of marine mammals beyond those numbers already authorized by the subject permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: October 3, 2007.
P. Michael Payne,
Chief, Permits, Conservation and Education Division, Office of Protected Resources, National Marine Fisheries Service.

[FR Doc. E7-19930 Filed 10-9-07; 8:45 am]

BILLING CODE 3510-22-S